DEPARTMENT OF ENERGY

Federal Energy Regulatory Commission

[Docket Nos. RP00-469-008, RP01-22-010, and RP03-177-005]

East Tennessee Natural Gas Company; Notice of Compliance Filing

March 4, 2004.

Take notice that on March 2, 2004, East Tennessee Natural Gas Company (East Tennessee) tendered for filing as part of its FERC Gas Tariff, Second Revised Volume No. 1, the following tariff sheets: (i) Second Sub Fifth Revised Sheet No. 52C and Second Sub Ninth Revised Sheet No. 176, each with an effective date of September 1, 2003, and (ii) Second Sub Eighth Revised Sheet No. 9, Second Sub Fourth Revised Sheet No. 129B, and Second Sub Fourth Revised Sheet No. 130, each with an effective date of November 3, 2003.

East Tennessee states that the purpose of this filing is to comply with the Commission's February 18, 2004 “Order on Rehearing and Compliance Filings” issued in East Tennessee's Order No. 637 proceeding in the captioned dockets.

East Tennessee states that copies of its filing have been served on all affected customers and interested State commissions, as well as to all parties on the official service lists compiled by the Secretary of the Commission in these proceedings.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-517 Filed 3-10-04; 8:45 a.m.]

BILLING CODE 6717-01-P